DEPARTMENT OF THE INTERIOR

Bureau of Land Management

[AZ-050-00-1430-EQ; AZA 25117]

Arizona: Expiration of Segregative Effect, and Opening Order for Proposed Airport Lease AZA 25117, Arizona

Correction

In notice document 00-14715 in the issue of Monday, June 12, 2000, appearing on page 36840, make the following corrections:

1. In the second column, in the heading, the docket line should appear as set forth above.

2. In the same column, in the second paragraph under the SUMMARY heading, in the line beginning “within lot 4”, “SE½” should read “S½”.

3. In the third column, in the Dated heading, “June 6, 2000 ” should read “June 2, 2000 ”.

[FR Doc. C0-14715 Filed 7-19-00; 8:45 am]

BILLING CODE 1505-01-D

SMALL BUSINESS ADMINISTRATION

13 CFR Part 121

Small Business Size Standards; Help Supply Services

Correction

In rule document 00-14015 beginning on page 35810, in the issue of Tuesday, June 6, 2000, make the following correction:

§ 121.201 [Corrected]

On page 35812, in the third column, in § 121.201, in amendatory instruction 3., in the fourth line, “SEC” should read “SIC”.

[FR Doc. C0-14015 Filed 7-19-00; 8:45 am]

BILLING CODE 1505-01-D